DEPARTMENT OF DEFENSE

Corps of Engineers, Department of the Army

Notice of Intent To Prepare a Draft Environmental Impact Statement for a Proposed Aquatic Ecosystem Restoration Project for the Quiver River, MS

AGENCY: Department of Defense, U.S. Army Corps of Engineers, DoD.

ACTION: Notice of intent.

SUMMARY: The U.S. Army Corps of Engineers, Vicksburg District, hereby gives notice of its intent to prepare a Draft Environmental Impact Statement (DEIS) assessing the reasonably foreseeable environmental impact of a proposal to restore the aquatic ecosystem of the Quiver River, a component of the Big Sunflower River watershed in the Mississippi Delta Region of northwest Mississippi. Aquatic ecosystem restoration is proposed as a means to ameliorate the condition of the Quiver River and of the Big Sunflower River watershed.

FOR FURTHER INFORMATION CONTACT: Questions or comments may be submitted to Mr. Brian LaBarre, U.S. Army Engineer District, Vicksburg, CEMVN-PDN-UDP, 4155 Clay Street, Vicksburg, MS 39183-3435; (601) 631-5437 (voice) or (601) 631-5115 (fax); brian.e.labarre@usace.army.mil.

SUPPLEMENTARY INFORMATION: Proposed Action. The Corps of Engineers, as per the National Environmental Policy Act (NEPA) (42 U.S.C. 4321 et seq.) and NEPA regulations of the Council on Environmental Quality (40 CFR part 1500 et seq.) and Corps of Engineers (33 CFR part 230), proposes, in cooperation with the Yazoo-Mississippi Delta Joint Water Management District, as a non-Federal sponsor, to restore the aquatic ecosystem of the Quiver River, for wildlife habitat and related purposes.

Alternatives. The DEIS will identify and evaluate impacts associated with constructing and with operation and maintenance activity related to restoring the aquatic ecosystem of the Quiver River, examining structural and nonstructural alternatives to increase stream flow, improve water quality, and expand habitat.

Scoping Process. Public Involvement. Scoping is the method by which the Corps of Engineers involves the public, Federal, and state resource agencies; Indian tribes; and other interested parties in identifying the environmental issues to be examined and in establishing a range of alternatives to be evaluated. All are invited to participate in the scoping process by attending the public information meeting to be held October 24, 2012, by submitting comments on the proposed action or DEIS, or both.

Environmental Impact. A tentative list of resources and issues that may be evaluated in the DEIS includes aquatic resources, recreational and commercial fisheries, wildlife resources, water quality, air quality, threatened or endangered species, recreation resources, and cultural resources. Tentative socio-economic considerations that may be evaluated in the DEIS include business and industrial activity, tax revenue, population growth, community and regional development, transportation, housing, community cohesion, and navigation.

Scoping Meeting. A public information meeting will be held October 24, 2012, from 5 to 8:30 p.m., at the Mississippi Delta Community College Capps Technology Center, 920 HWY 82, West Indianola, MS 38751.

Estimated Date of Availability of a DEIS. September 2014.

Dated: September 18, 2012.
Barbara Petersen,
Acting Chief, Programs and Project Management Division.

[FR Doc. 2012-23670 Filed 9-25-12; 8:45 am]

BILLING CODE 3720-58-P